DEPARTMENT OF JUSTICE

Office of Justice Programs

Agency Information Collection Activities: Proposed Collection; Comment Requested

ACTION: 60-day notice of information collection under review: 2006 Census of Adult Parole Supervising Agencies.

The Department of Justice (DOJ), Office of Justice Programs, has submitted the following information collection request to the Office of Management and Budget (OMB) for review and approval in accordance with the Paperwork Reduction Act of 1995. The proposed information collection is published to obtain comments from the public and affected agencies. Comments are encouraged and will be accepted for “sixty days” until October 21, 2005. This process is in accordance with 5 CFR 1320.10.

If you have comments, especially on the estimated public burden or associated response time, suggestions, or need a copy of the proposed information collection instrument with instructions or additional information, please contact Lawrence Greenfeld, Director, Bureau of Justice Statistics, 810 Seventh St. NW., Washington, DC 20531.

Written comments and suggestions from the public and affected agencies concerning the proposed collection of information. Your comments should address one or more of the following four points:

—Evaluate whether the collection of information is necessary for the proper performance of the functions of the agency, including whether the information will have practical utility;

—Evaluate the accuracy of the agency's estimate of the burden of the proposed collection of information, including the validity of the methodology and assumptions used;

—Enhance the quality, utility and clarity of the information to be collected; and

—Minimize the burden of the collection of information on those who are to respond, including through the use of appropriate automated, electronic, mechanical, or other technological collection techniques or other forms of information technology, e.g., permitting electronic submission of responses.

Overview of This Information Collection: (1) Type of Information Collection: Reinstatement, with change, of a previously approved collection for which approval has expired.

(2) The Title of the Form/Collection: 2006 Census of Adult Parole Supervising Agencies.

(3) The Agency Form Number, if Any, and the Applicable Component of the Department Sponsoring the Collection: Form: CJ-36. Corrections Statistics, Bureau of Justice Statistics, Office of Justice Programs, United States Department of Justice.

(4) Affected Public Who Will Be Asked To Respond, as Well as a Brief Abstract: Primary: State Departments of Corrections or State Parole authority. Others: The Federal Bureau of Prisons. For the CJ-36 form, 54 central reporters (two State jurisdictions in California and one each from the remaining States, the District of Columbia, the Federal Bureau of Prisons, and one local authority) responsible for keeping records on parolees will be asked to provide information for the following categories:

(a) Whether the parole agency is located within the executive or judicial branch of government, whether it is a private organization under contract to a government agency; and whether the agency is administered by the Department of Corrections, a court, an independent agency or another parole agency;

(b) As of June 30, 2006, the number of adult parolees under their jurisdiction;

(c) As of June 30, 2006, the number of adult parolees under their jurisdiction who were supervised following a discretionary release, a mandatory release, a special conditional release, or other type of release from prison;

(d) Whether the adult parole supervising agency also supervises either adult probationers or juveniles on probation or parole/aftercare, and the number of each under supervision on June 30, 2006;

(e) Whether the adult parole supervising agency conducts prison release hearings; and between July 1, 2005 and June 30, 2006, the number of prisoners considered for release and the number of prisoners released;

(f) Whether the adult parole supervising agency sets the terms/conditions of adult parole supervision and, if not, who does;

(g) Between July 1, 2005 and June 30, 2006, the number of adult parole revocation hearings conducted by the adult parole supervising agency; or who has responsibility for conducting adult parole revocation hearings;

(h) On June 30, 2006, the number of adult parolees under their jurisdiction who were active, inactive, absconders, or supervised out of state;

(i) On June 30, 2006, the number of parolees required to have face-to-face contact with a parole officer at least once per week, once per month, and less than once per month; the number of parolees no longer required to report on a regular basis; and the number of parolees released from prison for whom a reporting frequency had not been determined;

(j) On June 30, 2006, the number of full-time and part-time payroll staff, nonpayroll staff, and contract staff employed by the agency;

(k) On June 30, 2006, the number of full-time and part-time male and female staff employed by the agency;

(l) On June 30, 2006, the number of full-time equivalent staff who directly supervised adults who were active on parole;

(m) Between July 1, 2005 and June 30, 2006, the number of parolees returned to incarceration because of a drug violation;

(n) As of June 30, 2006, whether any parolees were enrolled in a drug treatment program; and the number in a drug treatment program run by a formally trained drug treatment professional, and the number in a self-help or drug awareness program;

(o) As of June 30, 2006, the number of parolees enrolled in a sex offender treatment program;

(p) As of June 30, 2006, the number of parolees enrolled in a mental health treatment program run by a formally trained mental health professional;

(q) Whether on June 30, 2006, the parole agency had a program that provided assistance to adult parolees in obtaining housing, and the type of program;

(r) Whether on June 30, 2006, the parole agency had a program that provided assistance to adult parolees in obtaining employment, and the type of program;

(s) On June 30, 2006, the number of separate offices in the parole agency;

(t) The number of adult parolees under supervision at the headquarters office on June 30, 2006;

(u) The name of any regional or district office with which the headquarters office is co-located;

(v) As of June 30, 2006, the number of adult parolees under supervision at each regional or district office (including field offices located within that administrative unit); and

(w) As of June 30, 2006, the number of field offices located within each of the regional or district offices which supervised adult parolees.

The Bureau of Justice Statistics uses this information in published reports and for the U.S. Congress, Executive Office of the President, practitioners, researchers, students, the media, and others interested in criminal justice statistics.

(5) An Estimate of the Total Number of Respondents and the Amount of Time Estimated for an Average Respondent to Respond: It is estimated that approximately 54 respondents will each take an average of 3 hours to respond.

(6) An Estimate of the Total Public Burden (in Hours) Associated With the Collection: It is estimated that there will be 162 hours associated with this collection.

If additional information is required, contact: Ms. Brenda E. Dyer, Department Clearance Officer, United States Department of Justice, Justice Management Division, Policy and Planning Staff, Patrick Henry Building, Suite 1600, 601 D Street, NW., Washington, DC 20530.

Dated: August 17, 2005.
Brenda E. Dyer,
Department Clearance Officer, United States Department of Justice.

[FR Doc. 05-16548 Filed 8-19-05; 8:45 am]

BILLING CODE 4410-18-P